NUCLEAR REGULATORY COMMISSION

[NRC-2009-0488]

Withdrawal of Regulatory Guide

AGENCY: Nuclear Regulatory Commission.

ACTION: Withdrawal of Regulatory Guide 1.83.

FOR FURTHER INFORMATION CONTACT: John N. Ridgely, U.S. Nuclear Regulatory Commission, Washington, DC 20555-0001, telephone: 301-251-7458 or e-mail John.Ridgely@nrc.gov.

SUPPLEMENTARY INFORMATION:

I. Introduction

The U.S. Nuclear Regulatory Commission (NRC or Commission) is withdrawing Regulatory Guide (RG) 1.83, “Inservice Inspection of Pressurized Water Reactor Steam Generator Tubes,” Revision 1, which was issued July 1975. RG 1.83 describes a program of periodic inservice inspection and nondestructive examination using a prescriptive sampling approach of steam generator tubing to detect defects and deterioration of the tubes in pressurized water reactors (PWRs). The RG was developed to demonstrate compliance with portions of General Design Criterion (GDC) 14, “Reactor Coolant Pressure Boundary,” GDC 15, “Reactor Coolant System Design,” GDC 31, “Fracture Prevention of Reactor Coolant Pressure Boundary,” and GDC 32, “Inspection of Reactor Coolant Pressure Boundary.”

RG 1.83 is being withdrawn because it no longer describes a preferred approach. It is a prescriptive regulatory guide which recommends the use of eddy current testing for the inspection of steam generator tubes. RG 1.83 may not ensure steam generator tube integrity as required by other rules/regulations. In addition, many of the methods/techniques discussed in the regulatory guide would not be considered acceptable, feasible, or practical given improvements in technology. Given the technological improvements and the recognition of the importance of maintaining tube integrity from a safety and economic perspective, the need for such prescriptive guidance has been superseded. In addition, simply following this guidance may not be sufficient to ensure tube integrity consistent with NRC regulations.

The NRC now endorses a more risk-informed and performance-based approach to regulatory compliance. The performance-based approach relies upon measurable (or calculable) outcomes (i.e., performance results) to be met, but provides more flexibility to the licensee as to the means of meeting those outcomes.

The high level requirements that must be met are contained in the standard technical specifications. These technical specifications are based on Nuclear Energy Institute (NEI) 97-06, “Steam Generator Program Guidelines,” and Technical Specification Task Force (TSTF) Traveller, TSTF-449. This latter document has been reviewed and approved by the NRC staff as documented in Generic Letter 2006-01. In addition, the current version of this Standard Review Plan discusses the high level requirements which an acceptable steam generator program must meet. RG 1.83 is no longer needed since the NRC has adopted the performance-based approach. The use of a performance-based approach to steam generator tube inspection does not supplant or displace the requirement for compliance with NRC regulations.

II. Further Information

Withdrawal of RG 1.83 does not, in and of itself, alter any prior or existing licensing commitments based on its use. The guidance provided in this regulatory guide is no longer necessary. Regulatory guides may be withdrawn when their guidance is superseded by Congressional action, the methods or techniques described in the Regulatory Guide no longer describe a preferred approach, or the Regulatory Guide does not provide useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 3rd day of November 2009.
For the Nuclear Regulatory Commission.
John N. Ridgely,
Acting Chief, Regulatory Guide Development Branch, Division of Engineering, Office of Nuclear Regulatory Research.

[FR Doc. E9-27058 Filed 11-10-09; 8:45 am]

BILLING CODE 7590-01-P